CONSUMER PRODUCT SAFETY COMMISSION

[CPSC Docket No. CPSC-2009-0095]

Notice of Workshop on Product Testing

AGENCY: Consumer Product Safety Commission.

ACTION: Notice.

SUMMARY: The Consumer Product Safety Commission (CPSC, Commission, we) is announcing a two-day workshop to discuss issues relating to the testing, certification, and labeling of certain consumer products pursuant to section 14 of the Consumer Product Safety Act. We invite interested parties to participate in or attend the meeting and to submit comments. The workshop will be held in Bethesda, Maryland on December 10 through 11, 2009.

DATES: The workshop will be held from 9:30 a.m. to 4 p.m. on Thursday, December 10, 2009, and Friday, December 11, 2009.

Comments must be received by January 11, 2010.

ADDRESSES: The workshop will be held at CPSC's headquarters building at 4330 East West Highway, Bethesda, Maryland 20814, 4th Floor Hearing Room. There is no charge to attend the workshop. Persons interested in attending the workshop must register online at http://www.cpsc.gov and click on the link titled, “CPSC Staff Workshop: Product Testing” under the “What's Hot” portion of the website near the bottom of the CPSC's home page. This link also has more information about the workshop.

You may submit comments, identified by Docket No. CPSC-2009-0095, by any of the following methods:

Electronic Submissions

Submit electronic comments in the following way:

Federal eRulemaking Portal: http://www.regulations.gov. Follow the instructions for submitting comments.

To ensure timely processing of comments, the Commission is no longer accepting comments submitted by electronic mail (e-mail) except through http://www.regulations.gov.

Written Submissions

Submit written submissions in the following way:

Mail/Hand delivery/Courier (for paper, disk, or CD-ROM submissions), preferably in five copies, to: Office of the Secretary, Consumer Product Safety Commission, Room 502, 4330 East West Highway, Bethesda, MD 20814; telephone (301) 504-7923.

Instructions: All submissions received must include the agency name and docket number for this notice. All comments received may be posted without change, including any personal identifiers, contact information, or other personal information provided, to http://www.regulations.gov. Do not submit confidential business information, trade secret information, or other sensitive or protected information electronically. Such information should be submitted in writing.

Docket: For access to the docket to read background documents or comments received, go to http://www.regulations.gov.

FOR FURTHER INFORMATION CONTACT: Robert J. Howell, Office of Hazard Identification and Reduction, Consumer Product Safety Commission, 4330 East West Highway, Bethesda, Maryland 20814; telephone (301) 504-7577 or e-mail: rhowell@cpsc.gov.

SUPPLEMENTARY INFORMATION:

I. What Does the Law Require?

Section 14(a)(1) of the Consumer Product Safety Act (CPSA) (15 U.S.C. 2063(a)(2)), as amended by the Consumer Product Safety Improvement Act of 2008 (CPSIA), establishes requirements for the testing and certification of products subject to a consumer product safety rule under the CPSA or similar rule, ban, standard, or regulation under any other Act enforced by the Commission and which are imported for consumption or warehousing or distributed in commerce. Under section 14(a)(1)(A) of the CPSA, manufacturers and private labelers must issue a certificate which “shall certify, based on a test of each product or upon a reasonable testing program, that such product complies with all rules, bans, standards, or regulations applicable to the product under the CPSA or any other Act enforced by the Commission.” CPSC regulations, at 16 CFR part 1110, further define the certificate requirement as applying only to importers and domestic manufacturers. Section 14(a)(1)(B) of the CPSA further requires that the certificate provided by the importer or domestic manufacturer “specify each such rule, ban, standard, or regulation applicable to the product.” The certificate described in section 14(a)(1) of the CPSA is known as a General Conformity Certification.

Section 14(a)(2) of the CPSA (15 U.S.C. 2063(a)(2)) establishes testing requirements for children's products that are subject to a children's product safety rule. (Section 3(a)(2) of the CPSA (15 U.S.C. 2052(a)(2)) defines a children's product as a consumer product designed or intended primarily for children 12 and younger.) Section 14(a)(2)(A) of the CPSA also states that, before a children's product that is subject to a children's product safety rule is imported for consumption or warehousing or distributed in commerce, the manufacturer or private labeler of such children's product must submit sufficient samples of the children's product “or samples that are identical in all material respects to the product” to an accredited “third party conformity assessment body” to be tested for compliance with the children's product safety rule. Based on such testing, the manufacturer or private labeler, under section 14(a)(2)(B) of the CPSA, must issue a certificate that certifies that such children's product complied with the children's product safety rule based on the assessment of a third party conformity assessment body accredited to perform such tests.

Section 14(d)(2)(A) of the CPSA requires the Commission to initiate a program by which a manufacturer or private labeler may label a consumer product as complying with the certification requirements. This provision applies to all consumer products that are subject to a product safety rule administered by the Commission.

Section 14(d)(2)(B) of the CPSA requires the Commission to establish protocols and standards for:

• Ensuring that a children's product tested for compliance with a children's product safety rule is subject to testing periodically and when there has been a material change in the product's design or manufacturing process, including the sourcing of component parts;

• Testing of random samples;

• Verifying that a children's product tested by a conformity assessment body complies with applicable children's product safety rules; and

• Safeguarding against the exercise of undue influence on a third party conformity assessment body by a manufacturer or private labeler.

II. What Is the CPSC Considering With Regard to Testing and Certification?

Although section 14 of the CPSA appears to impose the same testing and certification requirements for consumer products and for children's products, there are significant differences between consumer products, children's products, manufacturers, and even testing methods and sampling methods. These differences make it difficult to devise a regulatory approach that is:

• General enough to apply to most, if not all, consumer products subject to section 14 of the CPSA;

• Detailed enough so that interested parties know what tests need to be performed, how often those tests need to be performed, and how many samples need to be tested;

• Rigorous enough so that the test results provide confidence that all (rather than most or some) consumer products comply with consumer product safety rules; and

• Sensitive enough to the needs of small businesses and individuals, such that any regulatory program designed to implement section 14 of the CPSA does not prove so costly or so burdensome as to drive those small businesses and individuals out of business regardless of the quality or safety of the products they make.

For example, one can imagine that the testing requirements that apply to a manufacturer who makes tens of thousands of electronic toys that will be sold at retail outlets throughout the world will and should differ from the testing requirements that apply to an individual who hand-carves ten wooden toys and sells them at local craft shows. Nevertheless, under section 14 of the CPSA, the electronic toys and wooden toys both may fit the definition of “children's product” and be subject to testing by a third party conformity assessment body. Similarly, one can imagine that a large manufacturer has the financial and technical resources and sophistication to devise testing programs and to source its products to ensure that the product and the components used to make the product comply with consumer product safety rules, whereas an individual might not. Nevertheless, under section 14 of the CPSA, both the large manufacturer and the individual must test and certify their products and must specify each such rule, ban, standard, or regulation applicable to the product.

The Commission, therefore, will conduct a two-day workshop to discuss possible options for implementing section 14 of the CPSA. We believe that a properly structured testing program will greatly reduce the likelihood of unsafe or otherwise non-compliant products entering the market. A properly structured testing and certification program also may result in fewer product recalls and CPSC enforcement actions, increased consumer confidence, and safer consumer products.

III. What Topics Will Be Addressed at the Workshop?

In general, the workshop will focus on the following topics:

• Reasonable Testing Programs;

• Additional Third-Party Testing Requirements for Children's Products;

• Issues Affecting Importers and Small Businesses;

• The Consumer Product Labeling Program; and

• Certification.

We address these topics in greater detail in parts III.A through III.E of this document.

A. Reasonable Testing Programs

1. What Is a “Reasonable Testing Program?”

As explained in part I of this document, section 14(a)(1)(A) of the CPSA requires manufacturers and private labelers of a product which is subject to a consumer product safety rule under the CPSA or similar rule, ban, standard, or regulation under any other Act enforced by the Commission to issue a certificate that is based on a test of each product or upon a reasonable testing program. Section 14(a)(1)(A) of the CPSA, however, begins with the phrase “except as provided by” section 14(a)(2) and (a)(3) of the CPSA. (Section 14(a)(2) of the CPSA pertains to third party testing of children's products while section 14(a)(3) of the CPSA establishes a schedule for third party testing.) While one might interpret the “except for” clause in section 14(a)(1) of the CPSA as not extending the “reasonable testing program” requirement to children's products, section 14(b) of the CPSA authorizes the Commission to prescribe reasonable testing programs for any product subject to a consumer product safety rule under the CPSA or a similar rule, regulation, standard, or ban under any other Act enforced by the Commission and for which a certificate is required under section 14(a) of the CPSA. Thus, because children's products are subject to a certificate requirement under section 14(a) of the CPSA, the Commission, by regulation, may prescribe a reasonable testing program for children's products.

We envision a reasonable testing program as having five elements regardless of the quantity of product manufactured or the size of the importer or manufacturer. The five elements are:

• Product specifications that describe the consumer product and list the safety rules, standards, etc., with which the product must comply. The product specification should include a complete description of the product and any other information, including, but not limited to, a bill of materials, parts listing, raw material selection and sourcing, and/or model names or numbers of items necessary to describe the product and differentiate it from other products.

• Certification tests which are performed on samples of the manufacturer's consumer product to demonstrate that the product is capable of passing the tests prescribed by the standard.

• A production testing plan which describes the tests that must be performed and the testing intervals to provide reasonable assurance that the products as produced meet all applicable safety rules.

• A remedial action plan which must be employed whenever samples of the consumer product or results from any other tests used to assess compliance yield unacceptable or failing test results.

• Documentation of the reasonable testing program and how it was implemented.

These essential elements are intended to promote the use or consideration of proper product design and material specifications, adequate production and quality control processes, effective remedial action process, and proper records maintenance procedures to assure, with reasonable certainty, that all products entered into commerce comply with all safety rules, standards, bans, or regulations. Some elements may be procedural or process-control oriented. Some elements may involve reliance on test data from material or component suppliers, and some elements may be based on third party testing validation.

2. What Are the Issues Regarding a Reasonable Testing Program?

We invite discussion and comment on the following issues pertaining to a “reasonable testing program:”

• Certain CPSC regulations, such as 16 CFR 1203.33(b) (describing characteristics of a “reasonable testing program” for testing bicycle helmets) include product specifications, certification testing, production testing, and corrective action as elements of a “reasonable testing program.” However, those other CPSC regulations tend to be specific to a single product type and affect a limited number of manufacturers. In part III.A.1 of this document, we described the five elements we believe should constitute a “reasonable testing program” for all manufacturers. Please discuss whether the five elements are appropriate for all manufacturers and whether additional requirements or modifications should be made. For example, we have heard about one testing program that evaluates hazards and risk assessment when the product is being designed; this step would occur before any testing is conducted, so one might consider whether additional requirements should be part of a reasonable testing program or modifications to the CPSC's five elements. Please identify any references, standards, and other regulatory approaches that may be helpful.

• What factors should be considered to determine a reasonable frequency for production testing? For example, should the frequency for testing product samples be determined by production volume, the amount of time that has elapsed since the product was last tested, or some combination of those two and/or other factors? How should the testing frequency be determined for very low volumes or seasonal production? What rationale should be used to determine the frequency of production testing? What references, standards, or models exist?

○ Should the potential hazard (either the severity or the probability of occurrence) be considered in determining how frequently the testing is conducted? For example, should a product subject to a consumer product safety rule, where the potential hazard is death, be tested more frequently than a product where the potential hazard is some lesser degree of harm? If so, how might a rule incorporate potential hazard into testing frequency?

• How should a reasonable testing program requirement address the number of samples to be tested? Production volumes can vary tremendously among manufacturers; one manufacturer might make hundreds of thousands of the same item, whereas an individual who hand-weaves or carves a product might make only one item. Please identify any references, standards, and other regulatory approaches that may be helpful.

• How might component or batch testing be incorporated into a “reasonable testing program?” What circumstances would warrant new component or batch testing?

○ Under what circumstances should component testing be permitted or not permitted?

○ Are there particular types of component testing which should or should not be permitted?

○ What are the potential problems in or obstacles to using component testing?

• Section 19(a)(6) of the CPSA makes it unlawful for any person to fail to furnish a certificate required by the CPSA or any other act enforced by the Commission or to issue a false certificate if such person “in the exercise of due care has reason to know that the certificate is false or misleading in any material respect * * *.” If, under a reasonable testing program, a manufacturer may rely on certificates provided by a component supplier, what criteria or factors should we consider in determining whether a manufacturer has exercised “due care?” How might a reasonable testing program's results apply in determining whether a certificate is false or misleading?

• What problems (if any) will small manufacturers or manufacturers of low volume products encounter in establishing a reasonable testing program as described in part III.A.1 of this document? To what extent do small businesses or manufacturers of low volume products already have procedures in place that are intended to ensure that their products meet the applicable product safety rules?

• What quality assurance procedures do manufacturers use now that might overlap with the reasonable testing program envisioned here?

B. What Are the Issues Regarding Additional Third-Party Testing Requirements for Children's Products?

Section 14(d)(2)(B)(i) of the CPSA requires the Commission to establish protocols and standards for ensuring that a children's product tested for compliance with a children's product safety rule is subject to testing periodically and when there has been a material change in the product's design or manufacturing process, including the sourcing of component parts.

• Should the potential hazard (either the severity or the probability of occurrence) be considered in determining how frequently the periodic testing is conducted? For example, should a product subject to a consumer product safety rule, where the potential hazard is death, be tested more frequently than a product where the potential hazard is some lesser degree of harm? If so, how might a rule incorporate potential hazard into testing frequency?

• What changes should constitute a “material change” in a product's design or manufacturing process? Are there criteria by which one might determine whether a change is a “material” change? For example, a material change in a product's design or manufacturing process could be described as a change that affects the product's ability to comply with a consumer product safety rule. However, as a practical matter, it may be difficult to determine what consumer product safety rules apply to the product and the extent to which compliance with those rules is affected by a change.

• Under what circumstances or conditions might the testing be limited to the change itself? For example, assume that a product is painted using paint made by Paint Company A, but then the product manufacturer changes to use paint made by Paint Company B. Would it be acceptable to test only the paint made by Paint Company B, under section 14(d)(2)(B)(i) of the CPSA, rather than test the entire product?

• Section 14(d)(2)(B)(ii) of the CPSA refers to the “testing of random samples to ensure continued compliance.” What constitutes a “random sample?” How should the sample be collected, and who should collect it? How should a regulation address the number of samples to be tested? Please identify any references, standards, and other regulatory approaches that may be helpful. For products that are arguably unique, such as hand-made or custom products, what would constitute a “random sample?”

• Section 14(d)(2)(B)(iii) of the CPSA requires the Commission to establish protocols and standards for “verifying that a children's product tested by a conformity assessment body complies with applicable children's product safety rules.” What requirements or procedures are needed to verify compliance? Who conducts the verification process and how? For example, should verification be done by a different third party conformity assessment body and using the same tests that were applied to the children's product? How often should verification be conducted? Please identify any references, standards, and other regulatory approaches that may be helpful.

• Section 14(d)(2)(B)(iv) of the CPSA requires the Commission to establish protocols and standards for “safeguarding against the exercise of undue influence” on third party conformity assessment bodies.

○ What specific requirements should a rule specify to ensure that a third party conformity assessment body is safeguarded against undue influence by a manufacturer or private labeler?

○ What specific requirements should a rule establish to ensure that manufacturers and private labelers do not exercise or attempt to exercise undue influence on third party conformity assessment bodies?

Currently, the notices of requirements we have issued for the accreditation of third party conformity assessment bodies specify that “firewalled” conformity assessment bodies (which are third party conformity assessment bodies that are owned, managed, or controlled by a manufacturer or private labeler) must submit to the Commission copies, in English, of their training documents showing how employees are trained to notify the Commission immediately and confidentially of any attempt by the manufacturer, private labeler, or other interested party to hide or exert undue influence over the third party conformity assessment body's test results. We have heard recommendations to strengthen or increase the evidence needed to protect against the exercise of undue influence and to apply such recommendations to all third party conformity assessment bodies and perhaps to manufacturers and private labelers. For example, individual employees could sign documents acknowledging that they are aware of and/or have received training pertaining to safeguards against undue influence. Please identify any references, standards, and other regulatory approaches that may be helpful.

• What provisions (if any) should be made for small manufacturers and manufacturers with low production volumes and why? For example, specifying the frequency of periodic testing or the number of random samples to be tested may be inappropriate where the volume of children's products being manufactured is low or where the children's product is one-of-a-kind.

• Although the enforcement of most third party testing requirements of the CPSA has been stayed at least until February 10, 2010 (74 FR 6396 (February 9, 2009)), many manufacturers and importers have subjected their products to third party testing. We are interested in learning about:

○ The experiences of firms in obtaining third party testing, including information on the actual testing costs, and the experiences of small firms and crafters, especially those with no more than a few employees or with low volume products (e.g., less than 10,000 units per year);

○ Testing costs and the possible impacts of required periodic testing on the financial health of the businesses;

○ The use of component testing to reduce the cost of testing or the potential for using component testing for lowering the cost of testing;

○ The circumstances under which component testing should or should not be permitted. For example, component testing may be appropriate for testing parts for lead and for phthalates, but inappropriate for testing pursuant to 16 CFR part 1203 (Safety Standard for Bicycle Helmets). As another example, one might argue that component testing may be appropriate for raw materials under certain circumstances, but that certain items should not be considered to be “component” and, therefore, are not appropriate for component testing. How might we define “component?” May the Consumer Product Safety Improvement Act of 2008 be read to require foreign manufacturers of components meant for children's products to issue certifications?;

○ Whether particular types of component testing should or should not be permitted. For example, assume that the product is a doll with painted eyes. If a manufacturer can develop a sample doll whose entire head is painted, using the same paint as used for the eyes, a testing laboratory would be able to obtain a sufficient paint sample from a smaller number of sample dolls compared to the number of dolls that would need to be tested if the manufacturer's samples had to have the same sized painted eyes as the dolls to be sold on the market. As another example, assume that a product is assembled in pieces; if a manufacturer can test the pieces before assembling the product, a testing laboratory would not have to receive an assembled final product and then break the product down into pieces for testing; and

○ The potential problems in or obstacles to using component testing.

C. What Are the Issues Pertaining to Importers and Small Businesses?

We recognize that importers, small businesses, and others may operate in an environment that may differ significantly from that of large manufacturers. For example, importers may acquire their product from many sources, including manufacturing operations under their control and contract manufacturers or foreign wholesalers that are not under their control. If an importer is not directly involved in the manufacturing process, its ability to monitor and control the manufacturing process may be limited.

• How might an importer involved with a contract manufacturer ensure testing is conducted when the source of a component part changes? We seek information on approaches that will ensure that consumer products comply with consumer product safety rules and similar rules, bans, standards, or regulations under other acts enforced by the Commission while recognizing that importers and others may face constraints due to their lack of direct involvement in the manufacture and production of the consumer product.

• Many small businesses have expressed concerns about the implementation of section 14(a)(2) of the CPSA, particularly small businesses importing or manufacturing children's products which require testing by a third party conformity assessment body. While we do not have sufficient information regarding the size or production volume of all children's product manufacturers, the information that is available suggests that, in 2006, 98 percent of domestic firms manufacturing toys, dolls, and/or games employed fewer than 500 employees, and 81 percent employed fewer than 20 employees. (See Employer Firms, & Employment by Employment Size of Firm by NAICS Codes, 2006 (North American Industry Classification System (NAICS) Code 33993 pertaining to the doll, toy, and game manufacturing industry), available on the Internet at http://www.sba.gov/advo/research/us06_n6.pdf.)

○ There will be an economic impact on all parties required to obtain third party testing of children's products. Those dealing with higher volumes may be able to amortize the testing costs over a larger volume of product, thereby reducing the incremental per-piece testing cost. However, requiring all businesses to abide by the same protocols and standards, regardless of their size or methods of production, may burden the smallest volume businesses with significant testing costs. We seek a better understanding of the potential cost impact on these smaller businesses and how a testing program pursuant to section 14(d)(2)(B) of the CPSA might be structured to minimize the cost burden while ensuring product safety.

○ Small businesses producing a very small volume of children's products, often custom-ordered, present unique challenges. These small businesses often buy small quantities of components at retail establishments. These components often are not children's products when sold at retail and therefore are not subject to the third party testing requirements. However, when the components are used to manufacture a children's product, they must meet all applicable standards. For example, a plain button sold at retail is not a children's product and is not subject to third party testing. If the same button is used to manufacture a toy, the button becomes a component of a children's product and becomes subject to the third party testing requirement and to children's product safety rules. We invite comment on possible approaches for product testing, including component testing, in these situations.

D. What Are the Issues Pertaining to a Consumer Product Labeling Program?

Section 14(d)(2)(A) of the CPSA requires the Commission to initiate, by regulation, a program by which a manufacturer or private labeler may label a consumer product as complying with the certification requirements in section 14(a) of the CPSA for consumer products and for children's products.

We believe that the party certifying the consumer product is responsible for ensuring that the product complies with all applicable consumer product safety rules or similar rules, bans, standards, or regulations under any other act enforced by the Commission and that only the party certifying the product's compliance, or its authorized representative, may affix the label to the consumer product. We also believe that the label should be affixed before the consumer product is placed on the market and should be affixed to the product packaging or, if there is no packaging, to the product or on a tag or other material included with the product.

• What requirements, if any, should be specified as part of the label program? For example, should a rule specify the label's text or provide other specifications such as size, color, font, and location? Should a rule impose any restrictions on the label's use? If so, what should the specifications or restrictions be?

• What challenges, if any, would a label program present to manufacturers, such as manufacturers of certain products or small manufacturers, and how could such challenges be addressed?

E. What Are the Issues Pertaining to Certification?

Section 14(g)(3) of the CPSA states that every certificate required under section 14 of the CPSA “shall accompany” the product or shipment of products covered by the same certificate and that a copy of the certificate shall be furnished to each distributor or retailer. Section 14(g)(4) of the CPSA allows for electronic filing of certificates up to 24 hours before arrival of an imported product and directs manufacturers and private labelers to furnish a copy to the Commission and to the Commissioner of Customs upon request.

• What constitutes or should constitute “accompanying” the product or shipment?

• In the Federal Register of November 18, 2008 (73 FR 68328), we issued a final rule discussing, among other things, the electronic certificate. The final rule allowed an electronic certificate to “accompany” the product or shipment if the certificate is identified by a unique identifier and can be accessed through a World Wide Web URL or other electronic means as long as the URL or other electronic means and the unique identifier are created in advance and are available to the Commission or to Customs and Border Protection when the product is available for inspection. The final rule also stated that importers and domestic manufacturers and private labelers satisfy the requirement of “furnishing” the certificate to distributors and retailers if they are given “a reasonable means to access the certificate.” (See 16 CFR 111.13, “Availability of electronic certificate”.) The final rule, however, gave no specific details on what constitutes a “unique identifier,” “other electronic means,” or “reasonable means.” What changes, if any, are needed to the rule regarding electronic certificates? Should foreign manufacturers be required to issue a certificate?

IV. Details Regarding the Workshop

The workshop will be held from 9:30 a.m. to 4 p.m. on Thursday, December 10, 2009, and Friday, December 11, 2009 at the CPSC's headquarters building at 4330 East West Highway, Bethesda, Maryland 20814, in the 4th Floor Hearing Room.

The workshop will open with a review of CPSC staff's current work on sections 14(a) and 14(d)(2) of the CPSA, including a discussion of the factors involved in sampling and an overview of the economic issues, followed by break-out sessions on the following subjects:

• The Consumer Product Labeling Program;

• Reasonable Testing Programs;

• Sampling Plans;

• Safeguarding Against Undue Influence on Product Testing;

• Additional Third-Party Testing Requirements for Children's Products; and

• Verification of Children's Product Testing Results.

The panels at the break-out sessions will consist of Commission staff and invited members from the public. If you would like to make a presentation at the workshop or be considered as a panel member for a specific break-out session, please send, via electronic mail (e-mail), a note indicating your desire to participate and/or indicating which of the break-out sessions you wish to join. We ask that you limit the number of break-out sessions to no more than three. We will select panelists and persons who will make presentations at the workshop, based on considerations such as: The individual's familiarity or expertise with the topic to be discussed; the practical utility of the information to be presented (such as a discussion of specific standards, methods, or other regulatory approaches), and the individual's viewpoint or ability to represent certain interests (such as large manufacturers, small manufacturers, consumer organizations, etc.). The e-mail should be sent to Robert Howell at rhowell@cpsc.gov no later than November 20, 2009. In addition, please inform Mr. Howell of any special equipment needs required to make a presentation. While an effort will be made to accommodate all persons who wish to make a presentation, the time allotted for presentations will depend on the number of persons who wish to speak on a given topic and the workshop schedule. We recommend that individuals and organizations with common interests consolidate or coordinate their presentations and request time for a joint presentation. If you wish to make a presentation and want to make copies of your presentation or other handouts available, you should bring copies to the workshop. We will notify those who are selected to make a presentation or participate in a break-out session panel at least 3 weeks before the workshop. Selections will be made in attempt to ensure that a wide variety of interests are represented.

If you do not wish to make a presentation, you do not need to notify the CPSC, but please be aware that seating will be on a first-come, first-served basis.

If you need special accommodations because of disability, please contact Mr. Howell at least 7 days before the workshop.

In addition, we encourage written or electronic comments to the docket. Written or electronic comments will be accepted until January 11, 2010. Please note that all comments should be restricted to how the CPSC should interpret and implement the requirements found in sections 14(a) and 14(d)(2) of the CPSA so as to promote increased product safety while minimizing possible adverse impacts or unintentional consequences of the implementing regulations to be developed.

Dated: November 9, 2009.
Todd A. Stevenson,
Secretary, Consumer Product Safety Commission.

[FR Doc. E9-27328 Filed 11-12-09; 8:45 am]

BILLING CODE 6355-01-P